DEPARTMENT OF THE TREASURY

Office of the Comptroller of the Currency

[OCC Charter Number 703692]

Monroe Federal Savings & Loan Association, Tipp City, Ohio; Approval of Conversion Application

Notice is hereby given that on August 9, 2024, the Office of the Comptroller of the Currency (OCC) approved the application of Monroe Federal Savings & Loan Association, Tipp City, Ohio, to convert to the stock form of organization. Copies of the application are available on the OCC website at the FOIA Reading Room (https://foia-pal.occ.gov/palMain.aspx) under Mutual to Stock Conversion Applications. If you have any questions, please contact Licensing Activities at (202) 649-6260.

(Authority: 12 CFR 192.205).

Dated: August 9, 2024.
By the Office of the Comptroller of the Currency.
Stephen A. Lybarger,
Deputy Comptroller for Licensing.

[FR Doc. 2024-18310 Filed 8-14-24; 8:45 am]

BILLING CODE 4810-33-P